DEPARTMENT OF COMMERCE

Office of the Secretary

Estimates of the Voting Age Population for 2013

AGENCY: Office of the Secretary, Commerce.

ACTION: General notice announcing population estimates.

SUMMARY: This notice announces the voting age population estimates as of July 1, 2013, for each state and the District of Columbia. We are providing this notice in accordance with the 1976 amendment to the Federal Election Campaign Act, Title 2, United States Code, Section 441a(e).

FOR FURTHER INFORMATION CONTACT: Victoria A. Velkoff, Chief, Population Division, U.S. Census Bureau, Room HQ-5H174, Washington, DC 20233, at 301-763-2071.

SUPPLEMENTARY INFORMATION: Under the requirements of the 1976 amendment to the Federal Election Campaign Act, Title 2, United States Code, Section 441a(e), I hereby give notice that the estimates of the voting age population for July 1, 2013, for each State and the District of Columbia are as shown in the following table.

Estimates of the Population of Voting Age for Each State and the District of Columbia: July 1, 2013
Area | Population 18 and over
United States | 242,542,967
Alabama | 3,722,241
Alaska | 547,000
Arizona | 5,009,810
Arkansas | 2,249,507
California | 29,157,644
Colorado | 4,030,435
Connecticut | 2,810,514
Delaware | 722,191
District of Columbia | 534,975
Florida | 15,526,186
Georgia | 7,502,458
Hawaii | 1,096,788
Idaho | 1,184,355
Illinois | 9,858,828
Indiana | 4,984,875
Iowa | 2,366,384
Kansas | 2,169,865
Kentucky | 3,381,291
Louisiana | 3,512,513
Maine | 1,067,026
Maryland | 4,584,292
Massachusetts | 5,298,878
Michigan | 7,650,421
Minnesota | 4,141,269
Mississippi | 2,253,775
Missouri | 4,646,486
Montana | 791,184
Nebraska | 1,404,168
Nevada | 2,128,531
New Hampshire | 1,052,337
New Jersey | 6,877,222
New Mexico | 1,577,747
New York | 15,411,151
North Carolina | 7,562,455
North Dakota | 560,705
Ohio | 8,920,978
Oklahoma | 2,903,541
Oregon | 3,072,459
Pennsylvania | 10,058,156
Rhode Island | 837,524
South Carolina | 3,695,041
South Dakota | 636,918
Tennessee | 5,004,401
Texas | 19,406,207
Utah | 2,004,283
Vermont | 503,929
Virginia | 6,395,870
Washington | 5,375,611
West Virginia | 1,472,626
Wisconsin | 4,434,937
Wyoming | 444,979
Source: U.S. Census Bureau, Population Division.

I have certified these counts to the Federal Election Commission.

Dated: January 28, 2014.
Penny Pritzker,
Secretary, U.S. Department of Commerce.

[FR Doc. 2014-02854 Filed 2-10-14; 8:45 am]

BILLING CODE 3510-07-P